DEPARTMENT OF COMMERCE

National Oceanic and Atmospheric Administration

Proposed Monterey Peninsula Water Supply Project; Notice of Availability of a Final Environmental Impact Report/Environmental Impact Statement

AGENCY: Office of National Marine Sanctuaries (ONMS), National Ocean Service (NOS), National Oceanic and Atmospheric Administration (NOAA), Commerce.

ACTION: Notice of availability of a final environmental impact report/environmental impact statement.

SUMMARY: California American Water Company (CalAm) submitted a permit application to NOAA's Monterey Bay National Marine Sanctuary (MBNMS) to construct and operate a reverse osmosis (RO) desalination facility project (Project) in Monterey County, California. NOAA is conducting the permit review process in accordance with review and consultation requirements under the National Environmental Policy Act (NEPA) and other applicable statutes. NOAA, as Federal lead agency for purposes of NEPA, and the California Public Utilities Commission (CPUC), the state lead agency for purposes of the California Environmental Quality Act (CEQA), have prepared a joint final environmental impact review/environmental impact statement (EIR/EIS) that analyzes the potential effects on the physical and human environment of the proposed action and alternatives.

DATES: This notice is applicable March 30, 2018.

ADDRESSES: Copies of the FEIR/EIS can be downloaded or viewed on the internet at https://montereybay.noaa.gov/resourcepro/resmanissues/desal-projects.html.

FOR FURTHER INFORMATION CONTACT: Karen Grimmer at 99 Pacific Ave., Bldg. 455a, Monterey, CA 93940 or mbnms.comments@noaa.gov.

SUPPLEMENTARY INFORMATION:

I. Background

CalAm submitted a permit application for construction and operation of its proposed Monterey Peninsula Water Supply Project (MPWSP or Project). The purpose of the MPWSP is to replace existing water supplies for CalAm's Monterey District service area that have been constrained by legal decisions affecting the Carmel River and Seaside Groundwater Basin water resources. The MPWSP comprises various facilities and improvements, including: A sub-surface seawater intake system; a 9.6-million-gallons-per-day (mgd) reverse osmosis (RO) desalination plant; desalinated water storage and conveyance facilities; and expanded Aquifer Storage and Recovery (ASR) facilities.

The desalination facility would be capable of producing 9.6 million gallons per day (MGD) of potable water on a 46-acre site located north of the City of Marina on unincorporated Monterey County property. The MPWSP proposes ten subsurface slant wells (nine new wells and conversion of an existing test well) to draw seawater from beneath the ocean floor in Monterey Bay to produce the source water for the desalination plant. The subsurface slant wells would be located primarily within the City of Marina, in the active mining area of the CEMEX sand mining facility. The slant wells would be approximately 700 to 1000 feet in length and extend beneath the coastal dunes, sandy beach, and the surf zone, terminating approximately 161 to 356 feet seaward of the Mean High Water line and at a depth of 190 to 210 feet below the seafloor. Up to 24.1 mgd of source water would be needed to produce 9.6 mgd of desalinated product water.

Under the proposed project, the desalination plant would generate approximately 13.98 mgd of brine, including 0.4 mgd of decanted backwash water. The brine would be discharged into Monterey Bay via a 36-inch diameter pipeline to a new connection with the existing Monterey Regional Water Pollution Control Agency's (MRWPCA) outfall and diffuser located offshore.

II. NOAA Proposed Action and Alternatives

NOAA is releasing a final EIR/EIS prepared in accordance with section 102(2)(C) of the National Environmental Policy Act (NEPA) of 1969, as amended, 42 U.S.C. 4332(2)(c), and the Council on Environmental Quality Regulations for Implementing the Procedural Provisions of NEPA. 40 CFR 1500-1508. NOAA's proposed action would be to authorize the installation of a subsurface seawater intake system, authorize the discharge of brine into MBNMS via an existing outfall pipe, and permit the continued presence of pipelines in MBNMS to transport seawater to or from a desalination facility.

The Final EIR/EIS identifies and assesses potential environmental impacts associated with the proposed project, and identifies six alternatives, plus a no action alternative. Federal agencies would use the EIR/EIS to consider related permits or other approvals for the Project as proposed. NOAA's preferred alternative is Alternative 5a, which is also the environmentally preferred alternative. Alternative 5a would be implemented in conjunction with the Pure Water Monterey Groundwater Replenishment Project (GWR), which would offer the same amount of freshwater as the proposed project through a 6.4 mgd desalination plant and the purchase and extraction of 3,500 afy of GWR Project water from the Seaside Groundwater Basin. Although the combined Alternative 5a and GWR project would result in a larger physical footprint than the proposed action alone, the pairing of Alternative 5a and the GWR project would result in reduced operational energy use and reduced GHG emissions compared to the proposed project. In addition, the combination of Alternative 5a and the GWR Project would result in reduced effects on groundwater levels influenced by fewer slant wells and less volume of pumping compared to the proposed project, and the GWR project would provide water to the Castroville Seawater Intrusion Project that would benefit the groundwater basin. Lastly, Alternative 5a paired with the GWR project would be consistent with the 2016 California Action Plan seeking integrated water supply solutions, the Governor's drought proclamations, the CPUC Water Action Plan goal of promoting water infrastructure investment, the California Ocean Plan, and MBNMS Desalination Guidelines.

III. NEPA Process and Federal Consultations

In accordance with Section 102(2)(C) of NEPA, NOAA published a Notice of Intent (NOI) to prepare an EIS for the proposed project on August 26, 2015 (80 FR 51787). During the EIS scoping meeting held on September 10, 2015, five participants commented publically on the proposed project. Twelve written comments were received throughout the public comment period. The complete written comments are available for review at: https://www.regulations.gov/docket?D=NOAA-NOS-2015-0105.

On January 13, 2017 a Draft EIR/EIS was released for public comment. NOAA and CPUC received approximately 82 comment letters, two form letter submissions, as well as 18 oral comments from the public hearing. Public and agency comments on the Draft EIR/EIS did not result in finding any impacts more adverse than disclosed in the DEIR/EIS. Furthermore, there were no substantial changes to the proposed project relevant to environmental concerns or significant new circumstances or information relevant to environmental concerns and bearing on the proposed action or its impacts. All comments are available and addressed in the FEIR/EIS. In addition, the complete written comments are available for review at: https://www.regulations.gov/docket?D=NOAA-NOS-2016-0156.

As part of the NEPA process, NOAA has completed federal interagency consultation with the National Marine Fisheries Service under section 7 of the Endangered Species Act and under the Magnuson Stevens Fishery Conservation and Management Act for Essential Fish Habitat. Consultation with the Fish and Wildlife Service under section 7 of the Endangered Species Act is ongoing. NOAA has also completed federal interagency consultation under section 106 of the National Historic Preservation Act. With respect to the Coastal Zone Management Act, Subpart D of the federal consistency regulations governs consistency review for activities requiring a federal license or permit. This section requires the applicant to conduct any required consistency review with the state coastal commission, and provide the Federal permitting agency with a consistency certification. CalAm is currently in discussions with the California Coastal Commission. All final consultation documents will be made available on the website listed above. Finally, the United States Department of the Army and the United States Army Corps of Engineers were cooperating agencies on this FEIR/FEIS.

Authority: 16 U.S.C. 1431 et seq.

Dated: March 23, 2018.
John Armor,
Director for the Office of National Marine Sanctuaries.

[FR Doc. 2018-06343 Filed 3-29-18; 8:45 am]

BILLING CODE 3510-NK-P